ENVIRONMENTAL PROTECTION AGENCY

40 CFR Part 180

[EPA-HQ-OPP-2013-0770; FRL-9904-17]

Notice of Receipt of Several Pesticide Petitions Filed for Residues of Pesticide Chemicals in or on Various Commodities; Corrections

AGENCY: Environmental Protection Agency (EPA).

ACTION: Notice of filing of petitions; corrections.

SUMMARY: EPA issued documents in the Federal Register of July 25, 2012, and January 16, 2013, concerning a new active ingredient (AI) and several pesticide petitions (PP) filed for residues of pesticide chemicals. The name of an AI was changed during the registration assessment process. This document corrects the name of an AI and also corrects a PP number.

ADDRESSES: The docket for this action, identified by docket identification (ID) number EPA-HQ-OPP-2013-0770, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Robert McNally, Biopesticides and Pollution Prevention Division (BPPD) (7511P); telephone number: (703) 305-7090; email address: BPPDFRNotices@epa.gov or Lois Rossi, Registration Division (RD) (7505P); telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each correction.

SUPPLEMENTARY INFORMATION:

I. Does this action apply to me?

The Agency included in the July 25, 2012, and January 16, 2013 documents a list of those who may be potentially affected by this action.

II. What does this correction do?

1. EPA-HQ-OPP-2012-0389. In FR Doc. 2012-17899, published in the Federal Register of July 25, 2012 (77 FR 43562) (FRL-9353-6), is corrected as follows: On page 43566, under the heading “New Tolerance Exemptions,” third column, paragraph number 4., PP 2F8014, lines 7 and 12, correct “GS-U-ACTX-Hv1a-SEQ2” to read “GS-omega/kappa-Hxtx-Hv1a.” (BPPD)

2. EPA-HQ-OPP-2012-0926. In FR Doc. 2013-00714, published in the Federal Register of January 16, 2013 (78 FR 3377) (FRL-9375-4), is corrected as follows: On page 3380, under the heading “Amended Tolerances,” third column, paragraph number 7., line 1, correct “PP 2F8155” to read “PP 2F8115.” (RD)

List of Subjects in 40 CFR Part 180

Environmental protection, Agricultural commodities, Feed additives, Food additives, Pesticides and pests, Reporting and recordkeeping requirements.

Dated: December 11, 2013.
Lois Rossi,
Director, Registration Division, Office of Pesticide Programs.

[FR Doc. 2013-30135 Filed 12-17-13; 8:45 am]

BILLING CODE 6560-50-P